SMALL BUSINESS ADMINISTRATION

[Disaster Declaration #11913]

California Disaster #CA-00144 Declaration of Economic Injury

AGENCY: U.S. Small Business Administration.

ACTION: Notice.

SUMMARY: This is a notice of an Economic Injury Disaster Loan (EIDL) declaration for the State of California, dated 10/21/2009.

Incident: Modesto Office Complex Fire.

Incident Period: 08/02/2009.

Effective Date: 10/21/2009.

EIDL Loan Application Deadline Date: 07/21/2010.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's EIDL declaration, applications for economic injury disaster loans may be filed at the address listed above or other locally announced locations.

The following areas have been determined to be adversely affected by the disaster:

Primary Counties: Stanislaus

Contiguous Counties:

California: Alameda, Calaveras, Mariposa, Merced; San Joaquin, Santa Clara, Tuolumne

The Interest Rate is: 4.000.

The number assigned to this disaster for economic injury is 119130.

The State which received an EIDL Declaration # is California.

(Catalog of Federal Domestic Assistance Number 59002)

Dated: October 21, 2009.
Karen G. Mills,
Administrator.

[FR Doc. E9-26216 Filed 10-29-09; 8:45 am]

BILLING CODE 8025-01-P